DEPARTMENT OF STATE

[Public Notice 4039]

Shipping Coordinating Committee; Notice of Meeting

The Shipping Coordinating Committee (SHC) will conduct a series of open meetings, each at 9:30 a.m., on Thursday, August 15, September 12, October 10, November 14, December 12, 2002 and Wednesday, January 8, 2003. These meetings will be held in the Department of Transportation Headquarters Building, 400 Seventh Street SW., Washington, DC 20950. The purpose of these meetings is to prepare for the Seventh Session of the International Maritime Organization (IMO) Subcommittee on Radiocommunications and Search and Rescue, to be held the week of January 13-17, 2003, at IMO headquarters in London, England.

Among the items of particular interest are:

• Maritime Safety Information for Global Maritime Distress Satellite System (GMDSS)

• Development of a procedure for recognition of mobile satellite systems

• Revision of performance standards for Navigational Telex (NAVTEX) equipment

• Emergency radiocommunications, including false alerts and interference

• Large passenger ship safety

• Issues related to maritime security

• Developments in maritime radiocommunication systems and technology

• Matters concerning Search & Rescue

Members of the public may attend these meetings up to the seating capacity of the rooms. Interested persons may seek information, including meeting room numbers, by writing; Mr. Russell S. Levin, U.S. Coast Guard Headquarters, Commandant (G-SCT-2), Room 6509, 2100 Second Street, SW., Washington, DC 20593-0001, by calling: (202) 267-1389, or by sending Internet electronic mail to rlevin@comdt.uscg.mil.

Dated: July 2, 2002.
Stephen M. Miller,
Executive Secretary, Shipping Coordinating Committee.

[FR Doc. 02-18851 Filed 7-24-02; 8:45 am]

BILLING CODE 4710-70-P